DEPARTMENT OF COMMERCE

International Trade Administration

[A-570-836]

Notice of Postponement of Final Results of Antidumping Duty New Shipper Review: Glycine from the People's Republic of China

AGENCY: Import Administration, International Trade Administration, Department of Commerce.

ACTION: Notice of postponement of final results of antidumping duty new shipper review.

EFFECTIVE DATE: November 24, 2000.

FOR FURTHER INFORMATION CONTACT: Robert Bolling or Rick Johnson, Office IX, DAS Group III, Import Administration, International Trade Administration, U.S. Department of Commerce, 14th Street and Constitution Avenue NW, Washington, DC 20230; telephone (202) 482-3434 and (202) 482-3818, respectively.

POSTPONEMENT OF FINAL RESULTS: The Department of Commerce (“the Department”) is postponing the final results in the antidumping duty new shipper review of glycine from the People's Republic of China. The deadline for issuing the final results in this new shipper review is now January 24, 2001.

On November 15, 1999, the Department initiated this new shipper administrative review. See Initiation of New Shipper Administrative Review, 64 FR 61834 (November 15, 1999). The date for issuing the final results of the review was November 25, 2000. In order to provide interested parties an opportunity to comment on the issue of whether glycine and phenylglycine are comparable products, which arose late in the proceeding, we are extending the time limit for the final results of the new shipper administrative review of glycine from the People's Republic of China by 60 days, in accordance with section 751(a)(3) of the Tariff Act of 1930, as amended. See November 16, 2000 memorandum from Edward Yang to Joseph Spetrini: Extension of Time Limit for the New Shipper Administrative Review of Glycine from the People's Republic of China. The date for issuing the final results is now January 24, 2001.

Dated: November 16, 2000.
Joseph A. Spetrini,
Deputy Assistant Secretary, AD/CVD Enforcement Group III.

[FR Doc. 00-30039 Filed 11-22-00; 8:45 am]

BILLING CODE 3510-DS-P